NATIONAL AERONAUTICS AND SPACE ADMINISTRATION

[Notice 03-088]

Notice of Prospective Patent License

AGENCY: National Aeronautics and Space Administration.

ACTION: Notice of prospective patent license.

SUMMARY: NASA hereby gives notice that Schaffer Test Products, Inc. has applied for a partially exclusive patent license to practice the invention described and claimed in KSC-12220 entitled “Current Signature Sensor,” which is assigned to the United States of America as represented by the Administrator of the National Aeronautics and Space Administration. Written objections to the prospective grant of a license should be sent to Randall M. Heald, Assistant Chief Counsel/Patent Counsel, and John F. Kennedy Space Center.

DATES: Responses to this notice must be received within August 15, 2003.

FOR FURTHER INFORMATION CONTACT: Randall M. Heald, Assistant Chief Counsel/Patent Counsel, John F. Kennedy Space Center, Mail Code: CC-A, Kennedy Space Center, FL 32899, telephone (321) 867-7214.

Dated: July 25, 2003.
Robert M. Stephens,
Deputy General Counsel.

[FR Doc. 03-19536 Filed 7-30-03; 8:45 am]

BILLING CODE 7510-01-P